NATIONAL AERONAUTICS AND SPACE ADMINISTRATION

[Notice 05-066]

NASA Advisory Council, Education Advisory Committee; Meeting

AGENCY: National Aeronautics and Space Administration.

ACTION: Notice of meeting.

SUMMARY: In accordance with the Federal Advisory Committee Act, Public Law 92-463, as amended, the National Aeronautics and Space Administration announces a meeting of the NASA Advisory Council, Education Advisory Committee (EAC).

DATES: Monday, April 25, 2005, 9 a.m. to 4:15 p.m., Tuesday, April 26, 2005, 8:40 a.m. to 12:30 p.m.

ADDRESSES: On Monday, April 25, 2005, the meeting will be at John F. Kennedy Space Center, Kennedy Space Center, Florida 32899. On Tuesday, April 26, 2005, the meeting will be held at the Radisson Resort at the Port, 8701 Astronaut Boulevard, Cape Canaveral, Florida, 32920.

SUPPLEMENTARY INFORMATION: The meeting will be open to the public up to the seating capacity of the room. The agenda for the meeting is as follows:

• Working sessions and discussion groups on the strategic roadmap and managing education projects

• Center research and education programs

• Partnerships and education

Attendees will be requested to sign a register and comply with NASA security requirements for the meeting on April 25, 2005. On Monday, April 25, 2005, civilians will have to enter the main entrance and proceed to the visitor center. Civilians will be issued a ticket and will have to go through Kennedy Space Center's security gates.

Attendance for the meeting on April 25, 2005, should be coordinated with Dr. Gregg Buckingham, gregg.a.buckingham@nasa.gov or (321) 867-8777 in the Office of Education at Kennedy Space Flight Center, Cape Canaveral, Florida.

FOR FURTHER INFORMATION CONTACT: Ms. Kimberly Allen, The Office of Education, National Aeronautics and Space Administration, Washington, DC, 20546, (202) 358-0103 for information.

It is imperative that the meeting be held on this date to accommodate the scheduling priorities of the key participants.

Dated: March 24, 2005.
P. Diane Rausch,
Advisory Committee Management Officer, National Aeronautics and Space Administration.

[FR Doc. 05-6515 Filed 3-31-05; 8:45 am]

BILLING CODE 4510-13-P